ENVIRONMENTAL PROTECTION AGENCY

Good Neighbor Environmental Board

[FRL-9958-77-OARM]

Notification of Public Advisory Committee Meeting

AGENCY: Environmental Protection Agency (EPA).

ACTION: Notice of Public Advisory Committee meeting.

SUMMARY: Pursuant to the Federal Advisory Committee Act, Public Law 92-463, notice is hereby given that the Good Neighbor Environmental Board will hold a public meeting on Thursday, February 9 and Friday, February 10, 2017 in Imperial Beach, California. The meeting is open to the public. Due to unforeseen administrative circumstances, EPA is announcing this meeting with less than 15 calendar days notice.

DATES: The Good Neighbor Environmental Board will hold an open meeting on Thursday, February 9 from 9:00 a.m. (registration at 8:30 a.m.) to 5:30 p.m. The following day, Friday, February 10, the Board will meet from 8:30 a.m. (registration at 8:00 a.m.) until 2:00 p.m.

PURPOSE OF MEETING: The purpose of this meeting is to begin discussion on the Good Neighbor Environmental Board's next report. Local officials and representatives of Federal departments and agencies will be making presentations and giving an overview of environmental issues in the San Diego area.

ADDRESSES: The meeting will be held at the Marriott Pier South, 800 Seacoast Drive, Imperial Beach, California. The meeting is open to the public, with limited seating on a first-come, first-serve basis.

GENERAL INFORMATION: The agenda will be available at http://www2.epa.gov/faca/gneb. General information about the Board can be found on its Web site at http://www2.epa.gov/faca/gneb. If you wish to make oral comments or submit written comments to the Board, please contact Mark Joyce at least five days prior to the meeting. Written comments should be submitted to Mark Joyce at joyce.mark@epa.gov.

MEETING ACCESS: For information on access or services for individuals with disabilities, please contact Mark Joyce at (202) 564-2130 or email at joyce.mark@epa.gov. To request accommodation of a disability, please contact Mark Joyce at least 10 days prior to the meeting to give EPA as much time as possible to process your request.

Dated: January 10, 2017.
Mark Joyce,
Acting Designated Federal Officer.

[FR Doc. 2017-02146 Filed 1-31-17; 8:45 am]

BILLING CODE 6560-50-P